DEPARTMENT OF DEFENSE

Office of the Secretary

[Docket ID DoD-2013-OS-0088]

Submission for OMB Review; Comment Request

AGENCY: Office of the Secretary, Department of Defense (DoD).

ACTION: Notice.

SUMMARY: The Department of Defense has submitted to OMB for clearance, the following proposal for collection of information under the provisions of the Paperwork Reduction Act (44 U.S.C. Chapter 35).

DATES: Consideration will be given to all comments received by May 23, 2014.

FOR FURTHER INFORMATION CONTACT: Fred Licari, 571-372-0493.

SUPPLEMENTARY INFORMATION:

Title, Associated Form and OMB Number: 2014 Ethnographies and Focus Groups; OMB Control Number 0704-TBD.

Type of Request: New.

Number of Respondents: 475.

Responses Per Respondent: 1.

Annual Responses: 475.

Average Burden per Response: 2 hours per ethnography; 2-2.25 hours per in-person focus group (depending on specific population); 1.5 hours per on-line focus group.

Annual Burden Hours: 298 hours total.

Needs and Uses: The primary objective of the set of information collections referred to as the 2014 Ethnographies and Focus Groups, conducted on behalf of the Federal Voting Assistance Program (FVAP), an agency of the Department of Defense, is to examine the attitudes, experiences, and behaviors of a number of actors involved in the absentee voting process as it pertains to CONUS and OCONUS military voters and overseas voters covered under the Uniformed and Overseas Civilian Absentee Voting Act (UOCAVA). This research will explore potential deficiencies, risks, and pitfalls which serve as barriers to voting success among these UOCAVA voters. The data obtained through this study will provide an assessment of potential changes to address current barriers to UOCAVA voting.

Affected Public: Non-military UOCAVA voters; Local Election Officials, and Individuals or Households.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD Information Management Division, 4800 Mark Center Drive, East Tower, Suite 02G09, Alexandria, VA 22350-3100.

Dated: April 18, 2014.
Aaron Siegel,
Alternate OSD Federal Register Liaison Officer, Department of Defense.

[FR Doc. 2014-09217 Filed 4-22-14; 8:45 am]

BILLING CODE 5001-06-P